NATIONAL AERONAUTICS AND SPACE ADMINISTRATION

[Notice: (11-007)]

NASA Advisory Council; Meeting

AGENCY: National Aeronautics and Space Administration.

ACTION: Notice of Meeting.

SUMMARY: In accordance with the Federal Advisory Committee Act, Public Law 92-463, as amended, the National Aeronautics and Space Administration announces a meeting of the NASA Advisory Council.

DATES: Thursday, February 10, 2011, 8 a.m.-5 p.m., Local Time. Friday, February 11, 2011, 8 a.m.-12 p.m., Local Time.

ADDRESSES: NASA Headquarters, 300 E Street, SW., Room 9H40, (PRC), Washington, DC 20456.

FOR FURTHER INFORMATION CONTACT: Ms. Marla King, NAC Administrative Officer, National Aeronautics and Space Administration Headquarters, Washington, DC 20546, (202) 358-1148.

SUPPLEMENTARY INFORMATION: The agenda for the meeting will include reports from the NAC Committees:

—Aeronautics.

—Audit, Finance and Analysis.

—Commercial Space.

—Education and Public Outreach.

—Exploration.

—Science.

—Space Operations.

—Technology and Innovation.

The meeting will be open to the public up to the seating capacity of the room. It is imperative that the meeting be held on this date to accommodate the scheduling priorities of the key participants. Visitors will need to show a valid picture identification such as a driver's license to enter the NASA Headquarters building (West Lobby—Visitor Control Center), and must state that they are attending the NASA Advisory Council meeting in room 9H40 before receiving an access badge. All non-U.S citizens must fax a copy of their passport, and print or type their name, current address, citizenship, company affiliation (if applicable) to include address, telephone number, and their title, place of birth, date of birth, U.S. visa information to include type, number, and expiration date, U.S. Social Security Number (if applicable), and place and date of entry into the U.S. Fax to Marla King, NASA Advisory Council Administrative Officer, FAX: (202) 358-3030, by no later than February 1, 2011. To expedite admittance, attendees with U.S. citizenship can provide identifying information 3 working days in advance by contacting Marla King via e-mail at marla.k.king@nasa.gov or by telephone at (202) 358-1148 or fax: (202) 358-3030.

Dated: January 14, 2011.
P. Diane Rausch,
Advisory Committee Management Officer, National Aeronautics and Space Administration.

[FR Doc. 2011-1367 Filed 1-21-11; 8:45 am]

BILLING CODE 7510-13-P